DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (301) 443-7978.

Pilot Testing of Outcome Measures in Programs Providing Services to Persons Who are Homeless and Have Serious Mental Illnesses—New—SAMHSA's Center for Mental Health Services (CMHS) provides funds to states and territories to provide services to individuals who are homeless and have serious mental illnesses. These services enable persons who are homeless and have serious mental illnesses to be placed in appropriate housing situations and linked to mental health services. To comply with requests for client outcome data, State and local providers have sought measures which could help them more effectively monitor and manage their programs as well as demonstrate program effectiveness.

Interest in performance measurement and evaluation of policies, programs and individual services has increased dramatically with the passage of the Government Performance and Results Act (GPRA) in 1993. GPRA focuses new attention on the quality of outcome measures used to collect information about publicly funded programs. Programs that provide services to persons who are homeless and have serious mental illnesses are facing greater need to document their effectiveness. These outcome data will ultimately be used in responding to Congressional and HHS oversight, GPRA requirements, and the requests of other governmental levels, managed care companies, and private funding sources.

The project will test the appropriateness and feasibility of selected indicators to measure the outcome of services to persons who are homeless and have serious mental illnesses. Outcome measures to be evaluated include housing status, sobriety or drug-free status, mental health treatment status, enrollment in an educational program, and employment.

In addition, the project will evaluate process measures pertaining to outreach, service delivery and linkage stages of intervention. These process indicators include the type of contact (i.e., referrals, walk-ins, fixed outreach, and mobile outreach); whether the person contacted agreed to services, reasons for any non-enrollment, and referral to, and provision of, specific services.

The project will test these outcome and process measures in a total of approximately six provider agencies in each of five participating States. The findings of the pilot test will serve as the basis for recommendations for a national implementation of data collection in similar programs. It will also test the feasibility of compiling such data in a central data collection point.

Local providers will report information on services provided to individuals served during an initial 30-day period. Providers will use the Individual Data Collection Form to record information about client characteristics for the time of first contact and during the 30-day period; the Individual Intervention and Linkage Form will be completed to capture information specific to referrals and receipt of services; and the 3-Month Follow-up Form will be completed three months after the end of the initial data collection period to provide more longitudinal information on participant status. No client-identified information will be submitted. After each period of data collection, local providers will be contacted by telephone to obtain feedback on the structure and utility of the data collection instruments, the process of collecting and reporting the data, and the overall burden associated with the data collection and submission effort. Projected response burden for the project is summarized in the table below.

| Estimated number of respondents | Responses per respondent | Average burden hours per response | Total annual burden hours
Individual Data Collection Form | 30 | 20 | .17 | 102
Individual Intervention and Linkage Form | 30 | 20 | .17 | 102
3-Month Follow-up Form | 30 | 20 | .06 | 36
Provider Survey | 30 | 2 | .50 | 30
Total |  |  |  | 270

Written comments and recommendations concerning the proposed information collection should be sent by May 17, 2004 to: SAMHSA Desk Officer, Human Resources and Housing Branch, Office of Management and Budget, New Executive Office Building, Room 10235, Washington, DC 20503; due to potential delays in OMB's receipt and processing of mail sent through the U.S. Postal Service, respondents are encouraged to submit comments by fax to: 202-395-6974.

Dated: April 8, 2004.
Anna Marsh,
Executive Officer, SAMHSA.

[FR Doc. 04-8638 Filed 4-15-04; 8:45 am]

BILLING CODE 4162-20-P